DEPARTMENT OF DEFENSE

Department of the Army, Corps of Engineers

Intent To Prepare an Environmental Impact Statement for the Nanushuk Project; Located 7.5 Miles Northeast of Nuiqsut, Alaska

AGENCY: Department of the Army, U.S. Army Corps of Engineers, DoD.

ACTION: Notice of intent.

SUMMARY: The Alaska District, U.S. Army Corps of Engineers (Corps) intends to prepare an Environmental Impact Statement (EIS) to identify and analyze the potential impacts associated with the development of the Alpine C and Nanushuk reservoirs, including construction and operation of the proposed project. The Corps will be evaluating a permit application for work under Section 10 of the Rivers and Harbors Act and section 404 of the Clean Water Act. The EIS will be used to support the permit decision in compliance with the National Environmental Policy Act (NEPA).

ADDRESSES: Please send written comments to Ms. Janet Post, U.S. Army Corps of Engineers, Regulatory Division CEPOA-RD, P.O. Box 6898, JBER, AK 99506-0898; by email: janet.l.post@usace.army.mil, or by Web site www.NanushukEIS.com.

FOR FURTHER INFORMATION CONTACT: Questions about the proposed action and the EIS can be answered by: Ms. Janet Post, Regulatory Division, by telephone: (907) 753-2831 or toll free from within Alaska: (800) 478-2712, by fax: (907) 753-5567, by email: janet.l.post@usace.army.mil, or by mail: U.S. Army Corps of Engineers, Regulatory Division CEPOA-RD, P.O. Box 6898, JBER, AK 99506-0898. To be added to the project mailing list and for additional information, please visit the following Web site: www.NanushukEIS.com.

SUPPLEMENTARY INFORMATION:

Proposed Action: The permit applicant, Repsol E&P USA, Inc. (Repsol), is proposing to develop the Alpine C and Nanushuk reservoirs, located approximately 52 miles west of Deadhorse, 7.5 miles northeast of Nuiqsut, and 1 mile southeast of the East Channel of the Colville River, in the State of Alaska. Up to 76 production and injection wells would be drilled from three drill sites (Drill Sites (DS) 1-3). Construction would include the Nanushuk Pad, comprised of DS1 and a central processing facility (CPF); two additional drill sites (DS2 and DS3); and an operations center pad. A tie-in pad would be constructed adjacent to the existing Kuparuk CPF2 facility. The operations center pad would include infrastructure to support operations and drilling, such as camps, office, warehouse, maintenance building, cold storage, potable water tanks, wastewater and water treatment plant, temporary waste storage area, communication structures, diesel-fired back-up power generators, and a helicopter landing pad. Tie-in pad infrastructure would include a pig launcher and receiver, a metering skid, pipe rack, laydown area, and a communications tower. One time screeding would be required at Oliktok Point Dock to support sealift module delivery.

The Project would include 11.1 miles of gravel infield roads, comprised of a 4.0-mile DS2 road and a 7.1 mile DS3 road, to provide all-season ground transport between the Nanushuk Pad and DS2 and DS3. And a 13.8-mile gravel access road to provide all-season ground transport between the Nanushuk Pad and the existing road network at Kuparuk DS2M.

The applicant would produce multiphase product from the three drill sites and transport it to the Nanushuk Pad via multiphase pipelines for processing. Water separated from the oil would be transported back to the drill sites via water injection pipelines to be reinjected back into the subsurface formation to help maintain pressure and enhance oil production. Separated gas would be used for power generation at the CPF, and the remainder would be transported back to the drill sites via gas lift pipelines for gas lift. Excess gas, if any, would be injected into a dedicated injection well at DS2. Sales-quality oil processed at the Nanushuk Pad would be transported to the tie-in pad at the Kuparuk CPF2 via the Nanushuk Pipeline.

Reasonable Alternatives: A reasonable range of alternatives will be identified and evaluated through scoping and the alternatives development process.

Scoping: The scoping period is anticipated to begin in February and end in March 2016.

(1) Public involvement: The Corps invites full public participation to promote open communication on the issues to be addressed in preparation of the EIS regarding the proposed action. All Federal, State, Tribal, and local agencies, and other interested persons or organizations, are urged to participate in the NEPA scoping process. Scoping meetings will be conducted to inform interested parties of the proposed project, receive public input on the development of proposed alternatives to be reviewed in the EIS, and to identify significant issues to be analyzed.

(2) Scoping meetings: The Corps plans to hold scoping meetings in Barrow, Nuiqsut, Anchorage, and Fairbanks. Public notices will be placed in local newspapers and other public places, and will be communicated directly with the smaller communities, once dates are confirmed.

(3) Information about these meetings and meeting dates will be published locally, posted at the project Web site, and available by contacting the Corps as previously described. A description of the proposed project will be posted on the project Web site prior to these meetings to help the public focus their scoping comments.

(4) The Corps will serve as the lead Federal agency in the preparation of the EIS. Agencies that are being invited to act as Cooperating Agencies include the following:

a. U.S. Environmental Protection Agency

b. U.S. Fish and Wildlife Service

c. State of Alaska, Department of Natural Resources, Office of Project Management and Permitting

d. North Slope Borough

e. Native Village of Nuiqsut

(5) The EIS will analyze the potential social, economic, physical, and biological impacts to the affected areas. Numerous issues will be analyzed in depth in the EIS. These issues include, but are not limited to, the following: The construction and operation of the facilities and their effect upon the community of Nuiqsut; subsistence; cultural resources; air quality; socioeconomics; alternatives; secondary and cumulative impacts; threatened and endangered species including critical habitat; hydrology and wetlands; and fish and wildlife.

(6) Other Environmental Review and Consultation Requirements: Other environmental review and consultation requirements include Executive Order 13175 Consultation and Coordination with Indian Tribal Governments, Executive Order 12898 Federal Actions to Address Environmental Justice in Minority Populations and Low-Income Populations, 106 of the National Historic Preservation Act of 1966, and Endangered Species Act Section 7 consultation.

(7) Land and Resource Ownership: Kuukpik Corporation owns the surface estate of lands at the drill sites and lands traversed by the infield roads and infield pipelines, and portions of the access road and Nanushuk Pipeline. The State of Alaska, through the Alaska Department of Natural Resources (ADNR), manages the majority of surface lands traversed by the Nanushuk Pipeline and access road. The Project will access subsurface mineral resources that are shared by the State of Alaska and the Arctic Slope Regional Corporation (ASRC).

Estimated Date Draft EIS Available to Public: It is anticipated that the Draft EIS will be available in spring 2017 for public review.

Dated: January 26, 2016.
Michael Salyer,
Chief, North Branch, Regulatory Division, Department of the Army, Corps of Engineers.

[FR Doc. 2016-01973 Filed 2-3-16; 8:45 am]

BILLING CODE 3720-58-P